DEPARTMENT OF COMMERCE

Foreign-Trade Zones Board

[Order No. 1336]

Grant of Authority for Subzone Status, American Eurocopter LLC (Helicopter and Helicopter Spare Parts); Grand Prairie, TX

Pursuant to its authority under the Foreign-Trade Zones Act of June 18, 1934, as amended (19 U.S.C. 81a-81u), the Foreign-Trade Zones Board (the Board) adopts the following Order:

Whereas, the Foreign-Trade Zones Act provides for “* * * the establishment * * * of foreign-trade zones in ports of entry of the United States, to expedite and encourage foreign commerce, and for other purposes,” and authorizes the Foreign-Trade Zones Board to grant to qualified corporations the privilege of establishing foreign-trade zones in or adjacent to U.S. Customs ports of entry;

Whereas, the Board's regulations (15 CFR Part 400) provide for the establishment of special-purpose subzones when existing zone facilities cannot serve the specific use involved; and when the activity results in a significant public benefit and is in the public interest;

Whereas, the Dallas/Fort Worth International Airport Board, grantee of FTZ 39, has made application to the Board for authority to establish special-purpose subzone status at the helicopter warehousing/distribution facility of American Eurocopter LLC, located in Grand Prairie, Texas (FTZ Docket 38-2003, filed 8/4/03, and amended 1/20/04);

Whereas, notice inviting public comment has been given in the Federal Register (68 FR 47536, 8/11/03); and,

Whereas, the Board adopts the findings and recommendations of the examiner's report, and finds that the requirements of the FTZ Act and the Board's regulations are satisfied, and that approval of the application is in the public interest;

Now, therefore, the Board hereby grants authority for subzone status at the helicopter warehousing and distribution facilities of American Eurocopter LLC, located in Grand Prairie, Texas (Subzone 39H), at the location described in the application, as amended, subject to the FTZ Act and the Board's regulations, including § 400.28.

Signed at Washington, DC, this 3rd day of June 2004.
James J. Jochum,
Assistant Secretary of Commerce for Import Administration, Alternate Chairman, Foreign-Trade Zones Board.

[FR Doc. 04-13492 Filed 6-15-04; 8:45 am]

BILLING CODE 3510-DS-P